DEPARTMENT OF TRANSPORTATION

Surface Transportation Board

[STB Finance Docket No. 35353]

VFRC, LLC—Acquisition Exemption—Union Pacific Railroad Company

VFRC, LLC (VFRC), a noncarrier, has filed a verified notice of exemption under 49 CFR 1150.31 to acquire certain physical assets of a rail line and the underlying right-of-way from the Union Pacific Railroad Company (UP), between milepost 682.25, near Greenberry, OR, and milepost 687.6, near Corvallis, OR (the Line), a distance of approximately 5.35 miles.

VFRC states that it will not provide rail freight service over the Line, but that UP will retain a permanent, exclusive rail freight easement to provide service over the Line. In a currently filed notice of exemption to become the operator of the Line, the Albany & Eastern Railroad Company seeks to acquire the freight easement from UP and to acquire by assignment from the Willamette & Pacific Railroad, Inc. (WPRR), the current operator of the Line, WPRR's operating rights and obligations with respect to the Line. See Albany & Eastern Railroad Company—Acquisition and Operation Exemption—Union Pacific Railroad Company and Willamette & Pacific Railroad, Inc., STB Finance Docket No. 35355.

VFRC states that it is in the process of finalizing a Line Sale Contract with UP, pursuant to which UP will: (1) Convey to VFRC certain track and track structures on, and the right-of-way underlying, the Line; and (2) retain the freight easement for operating the Line. VFRC also states that the Line Sale Contract does not contain a provision prohibiting the interchange of traffic with a third party.¹

¹ VFRC indicates that it will shortly be filing a motion to dismiss this notice of exemption on the grounds that the Board does not have jurisdiction over the involved purchase. If such a motion is filed, it will be addressed in a subsequent Board decision.

VFRC certifies that its projected annual revenues as a result of the transaction will not exceed those that would qualify it as Class III rail carrier and further certifies that its projected annual revenues will not exceed $5 million.

VFRC states that it expects the transaction to be consummated on or shortly after the effective date of this exemption. The earliest this transaction may be consummated is March 24, 2010, the effective date of the exemption (30 days after the exemption was filed).

If the verified notice contains false or misleading information, the exemption is void ab initio. Petitions to revoke the exemption under 49 U.S.C. 10502(d) may be filed at any time. The filing of a petition to revoke will not automatically stay the effectiveness of the exemption. Petitions for stay must be filed no later than March 17, 2010 (at least 7 days before the exemption becomes effective).

An original and 10 copies of all pleadings, referring to STB Finance Docket No. 35353, must be filed with the Surface Transportation Board, 395 E Street, SW., Washington, DC 20423-0001. In addition, a copy of each pleading must be served on Karl Morell, Ball Janik LLP, 1445 F Street, NW., Suite 225, Washington, DC 20005.

Board decisions and notices are available on our Web site at http://www.stb.dot.gov.

Decided: March 5, 2010.
By the Board, Rachel D. Campbell, Director, Office of Proceedings.
Jeffrey Herzig,
Clearance Clerk.

[FR Doc. 2010-5077 Filed 3-9-10; 8:45 am]

BILLING CODE 4915-01-P